DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: October 20, 2016, 10:00 a.m.

PLACE: Room 2C, 888 First Street NE., Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1030th—Meeting, Regular Meeting
[October 20, 2016, 10:00 a.m.]
Item No. | Docket No. | Company
ADMINISTRATIVE
A-1 | AD16-1-000 | Agency Administrative Matters.
A-2 | AD16-7-000 | Customer Matters, Reliability, Security and Market Operations.
A-3 | AD06-3-000 | 2016-2017 Winter Energy Market Assessment.
A-4 | AD16-24-000 | Winter Operations and Market Performance in Regional Transmission Organizations and Independent System Operators.
| CP15-558-000 | PennEast Pipeline Company, L.L.C.
| ER13-2266-003 | ISO New England Inc.
| ER14-1461-002 | PJM Interconnection, L.L.C.
| ER15-623-009, ER15-623-010 | PJM Interconnection, L.L.C.
| ER15-1825-007 | California Independent System Operator Corporation.
| ER16-120-001, ER16-120-003 | New York Independent System Operator, Inc.
| ER16-372-002 | PJM Interconnection, L.L.C.
| ER16-551-003 | ISO New England Inc.
| ER16-833-002 | Midcontinent Independent System Operator, Inc.
| ER16-1404-000 | New York Independent System Operator, Inc.
| ER16-1649-000 | California Independent System Operator Corporation.
| ER16-1912-001 | Southwest Power Pool, Inc.
| ER16-2445-000 | California Independent System Operator Corporation.
| ER16-2529-000 | ISO New England Inc.
| ER16-2678-000 | Nevada Power Company.
| ER16-2680-000 | PacifiCorp.
| ER16-2685-000 | Midcontinent Independent System Operator, Inc.
| ER16-2722-000 | Arizona Public Service Company.
| ER17-40-000 | California Independent System Operator Corporation.
| EL07-39-007 | New York State Public Service Commission.
| EL13-62-001, EL13-62-002 | Independent Power Producers of New York.
| EL14-48-000 | PJM Interconnection, L.L.C.
| EL15-29-006 | PJM Interconnection, L.L.C.
| EL15-37-002 | New York Independent System Operator, Inc.
| EL15-41-002 | PJM Interconnection, L.L.C.
| EL15-70-000 | Public Citizen, Inc. v. Midcontinent Independent System Operator, Inc.
| EL15-71-000 | The People of the State of Illinois, By Illinois Attorney General Lisa Madigan v. Midcontinent Independent System Operator, Inc.
| EL15-72-000 | Southwestern Electric Cooperative, Inc. v. Midcontinent Independent System Operator, Inc.
| EL15-82-000 | Illinois Industrial Energy Consumers v. Midcontinent Independent System Operator, Inc.
| EL16-92-000 | New York State Public Service Commission v. New York Independent System Operator, Inc.
| EL16-93-001 | NextEra Energy Resources, LLC v. ISO New England Inc.
| EL16-109-000 | Virginia Electric and Power Company v. PJM Interconnection, L.L.C.
| EL16-112-000 | Coalition of MISO Transmission Customers v. Midcontinent Independent System Operator, Inc.
| EL16-120-000 | New England Power Generators Association, Inc.
| RP16-618-000 | Algonquin Gas Transmission, LLC.
ELECTRIC
E-1 | ER13-1508-001 | Entergy Arkansas, Inc.
| ER13-1509-001 | Entergy Gulf States Louisiana, L.L.C.
| ER13-1510-001 | Entergy Louisiana, LLC.
| ER13-1511-001 | Entergy Mississippi, Inc.
| ER13-1512-001 | Entergy New Orleans, Inc.
| ER13-1513-001 | Entergy Texas, Inc.
E-2 | Omitted
E-3 | ER15-1861-000, ER15-1862-000 | Tucson Electric Power Company.
E-4 | TS16-2-000 | PPL Electric Utilities Corporation.
E-5 | RR16-6-000 | North American Electric Reliability Corporation.
E-6 | ER16-1649-004, ER16-1649-005 | California Independent System Operator Corporation.
E-7 | ES16-46-000 | Community Wind North, LLC.
E-8 | ES16-45-000 | Spring Canyon Interconnection LLC.
E-9 | EL16-43-000, QF16-259-001 | Bright Light Capital, LLC.
E-10 | EL16-58-000, QF15-793-001, QF15-794-001, QF15-795-001 | SunE B9 Holdings, LLC.
E-11 | EL16-111-000, QF15-792-001 | SunE M5B Holdings, LLC.
E-12 | Omitted
E-13 | Omitted
E-14 | EL16-38-001 | Dominion Energy Marketing, Inc., Dominion Energy Manchester Street, Inc. v. ISO New England Inc.
E-15 | ER15-1682-003 | TransCanyon DCR, LLC.
E-16 | EL16-8-001 | East Kentucky Power Cooperative, Inc. v. Louisville Gas & Electric Company/Kentucky Utilities Company.
E-17 | ER04-835-000 | California Independent System Operator Corporation.
| EL04-103-000 (Consolidated) | Pacific Gas and Electric Company v. California Independent System Operator Corporation.
| EL14-67-000 | The Alliance for Retail Energy Markets Shell Energy North America (US), L.P. v. California Independent System Operator Corporation.
| ER04-835-007, ER04-835-009 | California Independent System Operator Corporation.
| EL04-103-002, EL04-103-004 | Pacific Gas and Electric Company v. California Independent System Operator Corporation.
GAS
G-1 | RM17-1-000 | Revisions to Indexing Policies and Page 700 of FERC Form No. 6.
G-2 | RP16-300-000 | Empire Pipeline, Inc.
G-3 | RP16-301-000 | Iroquois Gas Transmission System, L.P.
G-4 | RP16-1057-000 | MoGas Pipeline LLC.
HYDRO
H-1 | P-2142-038 | Brookfield White Pine Hydro LLC.
H-2 | P-1494-434 | Grand River Dam Authority.
CERTIFICATES
C-1 | CP16-80-000 | ANR Pipeline Company.

Dated: October 13, 2016.
Kimberly D. Bose,
Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2016-25245 Filed 10-14-16; 11:15 am]

BILLING CODE 6717-01-P